DEPARTMENT OF COMMERCE

National Oceanic and Atmospheric Administration

[RTID 0648-XC677]

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that the following stocks of fish are now subject to overfishing or overfished: Gulf of Maine haddock, Gulf of Mexico cubera snapper, Gulf of Mexico Jacks Complex, and Gulf of Mexico Mid-water Snapper Complex are now subject to overfishing, and Pacific bluefin tuna, Pacific sardine, Bering Sea snow crab, Saint Matthew Island blue king crab, Southern New England/Mid-Atlantic yellowtail flounder, Gulf of Maine/Georges Bank Atlantic wolffish, Northwestern Atlantic ocean pout, Northwestern Atlantic witch flounder, Atlantic herring, Atlantic halibut, and Georges Bank yellowtail flounder all continue to be overfished. NMFS, on behalf of the Secretary, notifies the appropriate regional fishery management council (Council) whenever it determines that a stock or stock complex is subject to overfishing, overfished, or approaching an overfished condition.

FOR FURTHER INFORMATION CONTACT: Regina Spallone, (301) 427-8568.

SUPPLEMENTARY INFORMATION: Pursuant to section 304(e)(2) of the Magnuson-Stevens Fishery Conservation and Management Act (Magnuson-Stevens Act), 16 U.S.C. 1854(e)(2), NMFS, on behalf of the Secretary, must notify Councils, and publish a notice in the Federal Register, whenever it determines that a stock or stock complex is subject to overfishing, overfished, or approaching an overfished condition.

NMFS has determined that Gulf of Maine haddock, Gulf of Mexico cubera snapper, Gulf of Mexico Jacks Complex, and Gulf of Mexico Mid-water Snapper Complex are now subject to overfishing. The Gulf of Maine haddock determination is based on the most recent assessment, completed in 2022 and using data through 2021, which indicates that this stock is subject to overfishing because the fishing mortality rate was above the threshold. The Gulf of Mexico stocks—cubera snapper, Jacks Complex, and Mid-water Snapper Complex—were not assessed in 2022, so landings data from 2021 were used to support the status determination of subject to overfishing. For each of the Gulf of Mexico stocks or complexes, 2021 landings were greater than their respective overfishing limit. NMFS has notified the New England Council (for haddock) and the Gulf of Mexico Council (for the Gulf of Mexico stocks) of their requirement to end overfishing on these stocks.

NMFS has determined that Pacific bluefin tuna, Pacific sardine, Bering Sea snow crab, Saint Matthew Island blue king crab, Southern New England/Mid-Atlantic yellowtail flounder, Gulf of Maine/Georges Bank Atlantic wolffish, Northwestern Atlantic ocean pout, Northwestern Atlantic witch flounder, Atlantic herring, Atlantic halibut, and Georges Bank yellowtail flounder all remain overfished.

The Pacific bluefin tuna determination is based on the most recent assessment, conducted by the International Scientific Committee for Tuna and Tuna-like Species in the North Pacific Ocean completed in 2022 using data through 2020. Applying domestic status determination criteria, this stock remains overfished because the spawning stock biomass is below its threshold. The Pacific sardine determination is based on the most recent assessment, conducted in 2022 using data from 2021 and supports a determination that the stock remains overfished because the biomass level is below its threshold. NMFS continues to work with the Pacific Council to rebuild these stocks.

The Bering Sea snow crab and Saint Matthew Island blue king crab determinations are based on the most recent assessments, completed in 2022 using data through 2022, which indicate that the stocks remain overfished because the biomass estimates are below their thresholds. NMFS continues to work with the North Pacific Council to rebuild these stocks.

The Southern New England/Mid-Atlantic yellowtail flounder, Gulf of Maine/Georges Bank Atlantic wolffish, Northwestern Atlantic ocean pout, and Northwestern Atlantic witch flounder determinations are based on the most recent assessment, completed in 2022 using data through 2021, which supports the determinations that these stocks remain overfished because the biomass estimates are below their thresholds. The Atlantic herring determination is based on the most recent assessment, finalized in 2022, using data through 2021, which supports a determination that the stock continues to be overfished because the biomass remains below its threshold. The Atlantic halibut and Georges Bank yellowtail flounder determinations are based on qualitative estimates of stock size, suggesting that biomass is low. NMFS continues to work with the New England Council to rebuild these stocks.

Dated: March 3, 2023.
Jennifer M. Wallace,
Acting Director, Office of Sustainable Fisheries, National Marine Fisheries Service.

[FR Doc. 2023-04734 Filed 3-7-23; 8:45 am]

BILLING CODE 3510-22-P